DEPARTMENT OF THE TREASURY

[Treasury Directive Number 74-14]

Treasury Telework and Flexiplace Program

October 18, 2000.

1. Purpose

This directive establishes the Department's policy for alternative workplace arrangements. It authorizes the use of Telework programs by Treasury bureaus and offices by permitting employees to work full or part-time at approved locations other than their official duty station. This directive sets forth a program that provides an opportunity for an employee to work at an alternative work site without changing an employee's official duty station or other conditions of employment.

2. Policy

It is the policy of the Department of the Treasury to provide employees the opportunity to utilize technology in order to participate in Telework programs where practical and consistent with agency mission. Consistent with the guidance set forth in this directive, each Treasury bureau or office shall establish a Telework program that permits it to meet its specific mission while supporting teleworking.

3. Background

Teleworking is a flexible arrangement that allows an employee to work away from the traditional office or official duty station in either (1) his/her home, (2) a Telework center, such as those established by the General Services Administration (GSA) or, (3) a virtual or mobile office setting. Telework programs may be designed to allow employees to work full or part-time, depending on the mission of the bureau and the roles and responsibilities of a particular office and its employees.

Programs may be designed for purposes such as: (1) Improving the bureau's ability to recruit and retain employees in a highly competitive market, (2) achieving cost savings by reducing real property needed for office space, (3) increasing employee morale and productivity, (4) and reducing traffic congestion, energy consumption, and air pollution.

4. Definitions

The following are definitions of terms used in this document:

a. Flexiplace. An alternative location at which an employee is allowed to work in lieu of reporting to the official duty station. The work site is not to be considered a barrier to an employee's ability to perform such obligations as official travel, attending face-to-face meetings and communication with colleagues and customers. Flexiplace addresses the location of the work site as opposed to the work schedule.

b. Telework. A program permitting employees to work at designated locations including work at home or other preapproved alternative work site.

c. Teleworker. An employee who, with the approval of his/her supervisor, works full or part-time at locations or work sites other than the official duty station.

d. Telework Center. A facility established under section 210(1) of the Federal Property and Administration Services Act of 1949 (40 U.S.C. 490(1)) or other Federal law, composed of generic workstations designed to accommodate employees from different agencies. Telework centers are equipped with telecommunications and other office equipment to facilitate communication with the official duty station and other places of business, to perform daily routine work responsibilities. Telework centers are generally located in easily accessible light industrial or commercial zones near large residential areas.

e. Full time Employee. One who works a 40-hour workweek consisting of specific days and hours at a designated work site(s). Full time employees must meet all obligations of the position regardless of work site arrangement.

5. Responsibilities

a. The Assistant Secretary for Management and Chief Financial Officer is responsible for the overall administration of the Departmental Telework and Flexiplace program.

b. The Deputy Assistant Secretary (Management Operations) and the Deputy Assistant Secretary (Human Resources) shall:

(1) designate:

(a) a Departmental coordinator to serve as primary contact, and

(b) Program Managers to provide information and support resources to assist in the organization and implementation of Telework programs throughout the Department;

(2) identify training and support resources, and coordinate Treasury initiatives and reports as required.

c. The Deputy Assistant Secretary (Information Systems) and Chief Information Officer shall provide advisory information systems services to support the Telework programs as needed.

d. The Chief Management and Administrative Programs Officer, Heads of Bureaus and Offices, the Inspector General, and the Inspector General for Tax Administration, as it relates to their respective bureaus and offices, shall:

(1) establish Telework programs at all bureau/office locations where possible and appropriate to bureau/office mission;

(2) appoint one or more Bureau/Office Telework Coordinator(s) to serve as contact and liaison between the Department and the bureau/office;

(3) within 90 days of the effective date of this directive, establish a bureau/office baseline on employee Telework participation, to be used in program evaluations and future progress reports;

(4) submit annual reports within 30 days of the end of the fiscal year to the Departmental Coordinators on the status of the bureau/office Telework program; and

(5) complete all labor relations responsibilities.

6. Telework Arrangements

a. Participation in a telework arrangement is not an employee entitlement. An employee may participate in the program if the responsible supervisor or designee decides that the employee's job duties are appropriate for offsite work

b. The telework arrangement under which an employee will perform work must be clearly set forth in a written agreement and signed by the respective supervisor and employee. The agreement must specify:

(1) The alternative work site (i.e., work-at-home, Telework center or other),

(2) Specific hours and days per week to be worked at the alternate work place,

(3) Pertinent office equipment to be provided and by whom,

(4) Method of communication to be used between the official duty station and alternate work place, and

(5) Duties to be performed and methods of evaluation to be employed.

c. A Telework arrangement does not alter the terms and conditions of appointment, including an employee's official duty station, salary, benefits, individual rights, or obligations. All pay, leave, and travel entitlement shall be based on the official duty station. The Telework arrangement shall not affect other conditions of employment, e.g., hours of work, unless otherwise specified in the Telework agreement.

d. Upon appropriate notice the bureau (manager) or designee, has the right to inspect the home or alternate work site and equipment to be used by an employee to ensure that proposed work space is safe, and all equipment is adequately installed and performing properly.

e. The Telework agreement between employee and supervisor may be terminated at the discretion of the supervisor.

f. The Telework arrangement shall be for the performance of official duties and shall not be treated as an opportunity to conduct personal business.

g. Each bureau/office may issue additional criteria in accordance with this Directive and with Treasury Publication TD P 74-14, Department of Treasury Telework Handbook, which provides additional general information and guidance regarding Telework programs. This manual is available through the Department's Office of Asset Management and the Office of the Deputy Assistant Secretary for Human Resources.

7. Authorities

a. Federal Employees Clean Air Incentives Act, (Pub. L. 103-172 (November 11, 1993).

b. Memorandum on Expanding Family-Friendly Work Arrangements in the Executive Branch, 30 Weekly Comp. Pres. Doc. 1468 (July 11, 1994).

c. Memorandum Implementing Federal Family Friendly Work Arrangements, 32 Weekly Comp. 1119 (June 21, 1996).

d. National Telecommuting Initiative Action Plan, (President's Management Council, January 1996).

8. Office of Primary Interest

Office of the Assistant Secretary for Management and Chief Financial Officer, Office of the Deputy Assistant Secretary (Human Resources), Office of the Deputy Assistant Secretary (Management Operations), and Office of Asset Management.

Lisa Ross,
Acting Assistant Secretary for Management and Chief Financial Officer.

[FR Doc. 00-27973 Filed 10-31-00; 8:45 am]

BILLING CODE 4810-25-P